DEPARTMENT OF JUSTICE

Drug Enforcement Administration

Winthrop C. Davis, M.D.; Revocation of Registration

On June 29, 2001, the Deputy Assistant Administrator, Office of Diversion Control, Drug Enforcement Administration (DEA), issued an Order to Show Cause (OTSC) by certified mail to Winthrop C. Davis, M.D., notifying him of an opportunity to show cause as to why the DEA should not revoke his DEA Certificate of Registration, BD3685053, pursuant to 21 U.S.C. 824(a)(3), and deny any pending applications for renewal of such registration pursuant to 21 U.S.C. 823(f), on the grounds that Dr. Davis was not authorized by the State of Florida to practice medicine. The order also notified Dr. Davis that should no request for hearing be filed within 30 days, his right to a hearing would be deemed waived.

The OTSC was sent to Dr. Davis at his DEA registered premises in Fort Lauderdale, Florida. The OTSC was returned, marked “Unclaimed.” An Andalusia, Alabama forwarding address was written on the envelope. Through the assistance of Alabama State law enforcement authorities, copies of the OTSC were delivered to Dr. Davis and his legal counsel in Andalusia, Alabama, on or about September 7, 2001. To date, no response has been received from Dr. Davis nor anyone purporting to represent him.

Therefore, the Deputy Administrator, finding that (1) 30 days having passed since the receipt of the Order to Show Cause, and (2) no request for a hearing having been received, concludes that Dr. Davis is deemed to have waived his right to a hearing. Following a complete review of the investigative file in this matter, the Deputy Administrator now enters his final order without a hearing pursuant o 21 CFR 1301.43(d) and (e), and 1301.46.

The Deputy Administrator finds as follows. Dr. Davis currently possesses DEA Certificate of Registration BD3685053, issued to him in Florida. By Order of Emergency Suspension of License, dated November 15, 2000, the State of Florida, Department of Health, suspended Dr. Davis' medical license, finding that Dr. Davis posed a danger to the health, safety and welfare of the public, in that Dr. Davis was unable to practice medicine as a physician with reasonable skill and safety because of untreated major depression and chronic relapsing substance abuse. In addition, the Florida Department of Health found Dr. Davis unwilling to cooperate with the Physicians Recovery Network, and that he failed to follow the recommendations of the Network. The investigative file further reveals Dr. Davis apparently has abandoned his DEA registered premises in Fort Lauderdale, Florida for a last known address in Andalusia, Alabama, approximately 625 miles away in a state in which Dr. Davis does not possess a license to practice.

On January 10, 2001, Dr. Davis was arrested by the Covington County Police Department, Andalusia, Alabama, and charged with Possession of a Controlled Substance. At the time of his arrest, Dr. Davis was observed to be driving erratically, and he refused to stop until law enforcement personnel forced him using a rolling roadblock. Four tablets of Carisoprodol (Soma), a Schedule IV controlled substance under Alabama State law, were found on Dr. Davis' person, and a search of the vehicle revealed two prescription bottles, in the name of another individual, containing another 109 additional Soma tablets. Dr. Davis did not possess a prescription for Soma. In addition, two Soma prescriptions found in the vehicle were written by Dr. Davis at a time when his Florida State medical license was suspended.

The investigative file contains no evidence that the Emergency Suspension of Dr. Davis' medical license has been lifted.

Therefore, the Deputy Administrator concludes that Dr. Davis is not currently licensed or authorized to handle controlled substances in Florida. Nor does the investigative file contain any evidence that Dr.Davis is authorized to practice medicine or handle controlled substances in Alabama.

The DEA does not have the statutory authority pursuant to the Controlled Substances Act to issue or to maintain a registration if the applicant or registrant is without state authority to handle controlled substances in the state in which he or she practices. See 21 U.S.C. 823(f), and 824(a)(3). This prereequisite has been consistently upheld in prior DEA cases. See Graham Travers Schuler, M.D., 65 FR 50,570 (2000); Demetris A. Green, M.D., 61 FR 60,728 (1996); Dominick A. Ricci, M.D., 58 FR 51,104 (1993).

In the instant case, the Deputy Administrator finds the Government has presented evidence demonstrating that Dr. Davis is not authorized to practice medicine in Florida, and therefore, the Deputy Administrator infers that Dr. Davis is also not authorized to handle controlled substances in Florida, the State in which he holds his DEA Certificate of Registration.

In addition, the Deputy Administrator also finds pursuant to 21 U.S.C. 824(a)(4) that Dr. Davis has committed acts that render his registration inconsistent with the public interest, as determined pursuant to 21 U.S.C. 823(f). All five of the public interest factors are adversely implicated by the conduct of Dr. Davis described above.

Accordingly, the Deputy Administrator of the Drug Enforcement Administration, pursuant to the authority vested in him by 21 U.S.C. 823 and 824 and 28 CFR 0.100(b) and 0.104, hereby orders that the DEA Certificate of Registration BD 3685053, previously issued to Winthrop C. Davis, M.D., be, and it hereby is, revoked. The Deputy Administrator hereby further orders that any pending applications for renewal or modification of said registration be, and hereby are, denied. This order is effective June 19, 2002.

Dated: May 6, 2002.
John B. Brown III,
Deputy Administrator.

[FR Doc. 02-12491 Filed 5-17-02; 8:45 am]

BILLING CODE 4410-09-M